DEPARTMENT OF ENERGY

Federal Energy Regulatory Commission

[Docket No. EC01-142-000, et al.]

UtiliCorp United Inc., et al. Electric Rate and Corporate Regulation Filings

August 23, 2001.

Take notice that the following filings have been made with the Commission:

1. UtiliCorp United Inc.

[Docket No. EC01-142-000]

Take notice that on August 20, 2001, UtiliCorp United Inc. (UtiliCorp) filed with the Federal Energy Regulatory Commission (Commission) an application for approval of the transfer of operational control over the transmission facilities of its Missouri Public Service, St. Joseph Light and Power and WestPlains Energy-Kansas divisions to the Midwest Independent System Operator, Inc. pursuant to section 203 of the Federal Power Act and section 33 of the Commission's regulations.

Comment date: September 10, 2001, in accordance with Standard Paragraph E at the end of this notice.

2. Idaho Power Company

[Docket No. ER01-1771-004]

Take notice that on August 20, 2001, Idaho Power Company (Idaho Power) tendered for filing a Refund Report detailing the calculation of the refund credited on June 10, 2001 by Idaho Power to the City of Oakland, California, acting by and through its Board of Port Commissioners (Port of Oakland), for revenues collected under a Power Sales Agreement between Idaho Power and Port of Oakland, dated December 28, 2000, for the period January 1, 2001 through June 10, 2001.

Comment date: September 11, 2001, in accordance with Standard Paragraph E at the end of this notice.

3. Summersville Hydroelectric Project

[Docket No. ER01-2438-000]

Take notice that on August 20, 2001, Gauley River Power Partners, L.P., on behalf of itself, the City of Summersville, West Virginia and Noah Corp. have filed the entire revised Rate Schedule No. 1 of the Summersville Hydroelectric Project in compliance with the Commission's August 8, 2001 order in this proceeding.

Comment date: September 10, 2001, in accordance with Standard Paragraph E at the end of this notice.

4. Tampa Electric Company

[Docket Nos. ER01-2831-000]

Take notice that on August 13, 2001, Tampa Electric Company (Tampa Electric) filed a notice of cancellation of its service agreement with NP Energy Inc. (NP Energy) for non-firm point-to-point transmission service under Tampa Electric's open access transmission tariff. Tampa Electric amended its filing on August 23, 2001.

Tampa Electric proposes that the cancellation of the service agreement be made effective on August 13, 2001, and therefore requests waiver of the Commission's notice requirement.

Comment date: September 10, 2001, in accordance with Standard Paragraph E at the end of this notice.

5. Southern Company Services, Inc.

[Docket No. ER01-2863-000]

Take notice that on August 20, 2001, Southern Company Services, Inc. (SCS), on behalf of Alabama Power Company, Georgia Power Company, Gulf Power Company, Mississippi Power Company, and Savannah Electric and Power Company (Southern Companies), tendered for filing a Notice of Cancellation of rate schedules.

Comment date: September 10, 2001, in accordance with Standard Paragraph E at the end of this notice.

6. Idaho Power Company

[Docket No. ER01-2865-000]

Take notice that on August 20, 2001, Idaho Power Company filed a Generation Interconnection and Operating Agreement, between Idaho Power Company and Watts United Power LLC, under its open access transmission tariff in the above-captioned proceeding.

Comment date: September 10, 2001, in accordance with Standard Paragraph E at the end of this notice.

7. Central Maine Power Company

[Docket No. ER01-2866-000]

Take notice that on August 20, 2001, Central Maine Power Company (CMP) tendered for filing a service agreement for Umbrella Non-Firm Point-to-Point Transmission Service entered into with Boralex Stratton Energy, Inc. Service will be provided pursuant to CMP's Open Access Transmission Tariff, designated as CMP—FERC Electric Tariff, Fifth Revised, Volume No. 3, Original Service Agreement No. 200.

Comment date: September 10, 2001, in accordance with Standard Paragraph E at the end of this notice.

8. Louisville Gas and Electric Company Kentucky Utilities Company

[Docket No. ER01-2868-000]

Take notice that on August 20, 2001, Louisville Gas and Electric Company (LG&E)/Kentucky Utilities (KU) (hereinafter Companies) tendered for filing an executed transmission service agreement with Calpine Energy Services, LP. (Calpine) This agreement allows Calpine to take firm point-to-point transmission service from LG&E/KU.

Comment date: September 10, 2001, in accordance with Standard Paragraph E at the end of this notice.

9. Louisville Gas And Electric Company Kentucky Utilities Company

[Docket No. ER01-2869-000

Take notice that on August 20, 2001, Louisville Gas and Electric Company (LG&E)/Kentucky Utilities (KU) (hereinafter Companies) tendered for filing an executed transmission service agreement with Exelon Generation Company, LLC (Exelon) This agreement allows Exelon to take non-firm point-to-point transmission service from LG&E/KU.

Comment date: September 10, 2001, in accordance with Standard Paragraph E at the end of this notice.

10. Louisville Gas And Electric Company; Kentucky Utilities Company

[Docket No. ER01-2870-000]

Take notice that on August 20, 2001, Louisville Gas and Electric Company (LG&E)/Kentucky Utilities (KU) (hereinafter Companies) tendered for filing an executed transmission service agreement with Exelon Generation Company LLC. (Exelon) This agreement allows Exelon to take firm point-to-point transmission service from LG&E/KU.

Comment date: September 10, 2001, in accordance with Standard Paragraph E at the end of this notice.

11. Louisville Gas And Electric Company; Kentucky Utilities Company

[Docket No. ER01-2871-000]

Take notice that on August 20, 2001, Louisville Gas and Electric Company (LG&E)/Kentucky Utilities (KU) (hereinafter Companies) tendered for filing an executed transmission service agreement with Calpine Energy Services, LP. (Calpine) This agreement allows Calpine to take non-firm point-to-point transmission service from LG&E/KU.

Comment date: September 10, 2001, in accordance with Standard Paragraph E at the end of this notice.

12. Louisville Gas And Electric Company; Kentucky Utilities Company

[Docket No. ER01-2872-000]

Take notice that on August 20, 2001, Louisville Gas and Electric Company (LG&E)/Kentucky Utilities (KU) (hereinafter Companies) tendered for filing an executed unilateral Service Sales Agreement between Companies and Calpine Energy Services, LP under the Companies' Rate Schedule MBSS.

Comment date: September 10, 2001, in accordance with Standard Paragraph E at the end of this notice.

13. Entergy Services, Inc.

[Docket No. ER01-2873-000]

Take notice that on August 20, 2001, Entergy Services, Inc., on behalf of Entergy Mississippi, Inc., tendered for filing an amended and restated Interconnection and Operating Agreement with Duke Energy Southaven (Duke Southaven), and an updated Generator Imbalance Agreement with Duke Southaven.

Comment date: September 10, 2001, in accordance with Standard Paragraph E at the end of this notice.

14. El Paso Electric Company

[Docket No. ER01-2874-000]

Take notice that on August 20, 2001, El Paso Electric Company (El Paso) tendered for filing a Service Agreement with the City of Burbank for Non-Firm Transmission Service under El Paso's Open Access Transmission Tariff. El Paso requests that the proposed Service Agreement be permitted to become effective on July 20, 2001. El Paso states that this filing is in accordance with part 35 of the Commission's regulations, 18 CFR part 35, and that a copy has been served on the Texas Public Utility Commission.

Comment date: September 10, 2001, in accordance with Standard Paragraph E at the end of this notice.

15. El Paso Electric Company

[Docket No. ER01-2875-000]

Take notice that on August 20, 2001, El Paso Electric Company (El Paso) tendered for filing a Service Agreement with Calpine Energy Services, L.P. for Firm Transmission Service under El Paso's Open Access Transmission Tariff. El Paso requests that the proposed Service Agreement be permitted to become effective on July 20, 2001. El Paso states that this filing is in accordance with part 35 of the Commission's regulations, 18 CFR part 35, and that a copy has been served on the Texas Public Utility Commission.

Comment date: September 10, 2001, in accordance with Standard Paragraph E at the end of this notice.

16. El Paso Electric Company

[Docket No. ER01-2876-000]

Take notice that on August 20, 2001, El Paso Electric Company (El Paso) tendered for filing a Service Agreement with PPL EnergyPlus, LLC for Non-Firm Transmission Service under El Paso's Open Access Transmission Tariff. El Paso requests that the proposed Service Agreement be permitted to become effective on July 20, 2001. El Paso states that this filing is in accordance with part 35 of the Commission's regulations, 18 CFR part 35, and that a copy has been served on the Texas Public Utility Commission.

Comment date: September 10, 2001, in accordance with Standard Paragraph E at the end of this notice.

17. El Paso Electric Company

[Docket No. ER01-2877-000]

Take notice that on August 20, 2001, El Paso Electric Company (El Paso) tendered for filing a Service Agreement with Morgan Stanley Capital Group, Inc. for Firm Transmission Service under El Paso's Open Access Transmission Tariff. El Paso requests that the proposed Service Agreement be permitted to become effective on July 20, 2001. El Paso states that this filing is in accordance with part 35 of the Commission's regulations, 18 CFR part 35, and that a copy has been served on the Texas Public Utility Commission.

Comment date: September 10, 2001, in accordance with Standard Paragraph E at the end of this notice.

18. El Paso Electric Company

[Docket No. ER01-2878-000]

Take notice that on August 20, 2001, El Paso Electric Company (El Paso) tendered for filing a Service Agreement with Morgan Stanley Capital Group, Inc. for Non-Firm Transmission Service under El Paso's Open Access Transmission Tariff. El Paso requests that the proposed Service Agreement be permitted to become effective on July 20, 2001. El Paso states that this filing is in accordance with part 35 of the Commission's regulations, 18 CFR part 35, and that a copy has been served on the Texas Public Utility Commission.

Comment date: September 10, 2001, in accordance with Standard Paragraph E at the end of this notice.

19. El Paso Electric Company

[Docket No. ER01-2879-000]

Take notice that on August 20, 2001, El Paso Electric Company (El Paso) tendered for filing a Service Agreement with Calpine Energy Services, L.P. for Non-Firm Transmission Service under El Paso's Open Access Transmission Tariff. El Paso requests that the proposed Service Agreement be permitted to become effective on July 20, 2001. El Paso states that this filing is in accordance with part 35 of the Commission's regulations, 18 CFR part 35, and that a copy has been served on the Texas Public Utility Commission.

Comment date: September 10, 2001, in accordance with Standard Paragraph E at the end of this notice.

20. El Paso Electric Company

[Docket No. ER01-2880-000]

Take notice that on August 20, 2001, El Paso Electric Company (El Paso) tendered for filing a Service Agreement with PPL EnergyPlus, LLC for Firm Transmission Service under El Paso's Open Access Transmission Tariff. El Paso requests that the proposed Service Agreement be permitted to become effective on July 20, 2001. El Paso states that this filing is in accordance with part 35 of the Commission's regulations, 18 CFR part 35, and that a copy has been served on the Texas Public Utility Commission.

Comment date: September 10, 2001, in accordance with Standard Paragraph E at the end of this notice.

21. El Paso Electric Company

[Docket No. ER01-2881-000]

Take notice that on August 20, 2001, El Paso Electric Company (El Paso) tendered for filing a Service Agreement with the City of Burbank for Firm Transmission Service under El Paso's Open Access Transmission Tariff. El Paso requests that the proposed Service Agreement be permitted to become effective on July 20, 2001. El Paso states that this filing is in accordance with part 35 of the Commission's regulations, 18 CFR part 35, and that a copy has been served on the Texas Public Utility Commission.

Comment date: September 10, 2001, in accordance with Standard Paragraph E at the end of this notice.

22. Connecticut Light and Power Company

[Docket No. ER01-2882-000]

Take notice that on August 20, 2001 Northeast Utilities Service Company (NUSCO), on behalf of The Connecticut Light and Power Company (CL&P), filed an executed Interconnection Agreement between CL&P and Capitol District Energy Center Cogeneration Associates (CDECCA) that establishes the terms for the continued interconnection of CDECCA's 56 MW generating facility located in Hartford, Connecticut to CL&P.

NUSCO states that a copy of this filing has been mailed to Capitol District Energy Center Cogeneration Associates.

Comment date: September 10, 2001, in accordance with Standard Paragraph E at the end of this notice.

23. West Texas Utilities Company

[Docket No. ER01-2883-000]

Take notice that on August 20, 2001, West Texas Utilities Company (WTU) submitted for filing a service agreements establishing Taylor Electric Cooperative, Inc. (Taylor) as a customer under WTU's Coordination Sales and Reassignment of Transmission Rights Tariff, FERC Electric Tariff, First Revised Volume No. 8. WTU has requested an effective date of July 20, 2001 for the agreement with Taylor and, accordingly, seeks waiver of the Commission's notice requirements.

WTU has served a copy of the filing on Taylor and on the Public Utilities Commission of Texas.

Comment date: September 10, 2001, in accordance with Standard Paragraph E at the end of this notice.

24. Virginia Electric and Power Company

[Docket No. ER01-2884-000]

Take notice that on August 20, 2001, Virginia Electric and Power Company (Dominion Virginia Power) tendered for filing Notices of Termination of Service Agreements with Michigan Companies (Consumers Power Company and The Detroit Edison Company) for Non-Firm Point-To-Point and (Consumers Energy Company and The Detroit Edison Company for Firm Point-To-Point Transmission Service designated respectively as First Revised Service Nos. 46 and 184 under FERC Electric Tariff, Second Revised Volume No. 5. Dominion Virginia Power respectfully requests an effective date of October 19, 2001.

Copies of the filing were served upon Consumers Energy Company, Detroit Edison, the Virginia State Corporation Commission and the North Carolina Utilities Commission.

Comment date: September 10, 2001, in accordance with Standard Paragraph E at the end of this notice.

25. California Independent System Operator Corporation

[Docket No. ER01-2886-000]

Take notice that on August 20, 2001, the California Independent System Operator Corporation (ISO) tendered for filing a Letter Agreement between the ISO and Bonneville Power Administration (BPA) in the above-captioned docket. The purpose of the Letter Agreement is to provide the terms for mutually beneficial power exchanges between the ISO and BPA.

The ISO states that this filing has been served on BPA and the California Public Utilities Commission.

Comment date: September 10, 2001, in accordance with Standard Paragraph E at the end of this notice.

26. South Point Energy Center, LLC

[Docket No. ER01-2887-000]

Take notice that on August 20, 2001, South Point Energy Center, LLC, (the Applicant) tendered for filing, under section 205 of the Federal Power Act (FPA), a request for authorization to make wholesale sales of electric energy, capacity and ancillary services at market-based rates, to reassign transmission capacity, and to resell firm transmission rights. Applicant proposes to lease and operate a 560-megawatt electric generation facility located in Mojave County, Arizona.

Comment date: September 10, 2001, in accordance with Standard Paragraph E at the end of this notice.

27. Jersey Central Power and Light Company

[Docket No. ER01-2888-000]

Take notice that on August 20, 2001, Jersey Central Power and Light Company (doing business and referred to as GPU Energy) submitted for filing a Generation Facility Transmission Interconnection Agreement between GPU Energy and Ocean Peaking Power, L.P.

Comment date: September 10, 2001, in accordance with Standard Paragraph E at the end of this notice.

28. Entergy Services, Inc.

[Docket No. ER01-2891-000]

Take notice that on August 21, 2001, Entergy Services, Inc., on behalf of Entergy Arkansas, Inc., Entergy Gulf States, Inc., Entergy Louisiana, Inc., Entergy Mississippi, Inc., and Entergy New Orleans, Inc., (collectively, the Entergy Operating Companies) tendered for filing a short-term Firm Point-To-Point Transmission Service Agreement between Entergy Services, Inc., as agent for the Entergy Operating Companies, and Minnesota Power.

Comment date: September 10, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-21921 Filed 8-29-01; 8:45 am]

BILLING CODE 6717-01-P